ENVIRONMENTAL PROTECTION AGENCY

[EPA-HQ-OPPT-2016-0699; FRL-9960-31]

Certain New Chemicals; Receipt and Status Information for February 2017

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from February 1, 2017 to February 28, 2017.

DATES: Comments identified by the specific case number provided in this document, must be received on or before June 12, 2017.

ADDRESSES: Submit your comments, identified by docket identification (ID) number EPA-HQ-OPPT-2016-0699, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, IMD 7407M, Office of Pollution Prevention and Toxics, Environmental Protection Agency, 1200 Pennsylvania Ave. NW., Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from February 1, 2017 to February 28, 2017, and consists of the PMNs and TMEs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory, please go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 62 PMNs received by EPA during this period, Table 1 provides the following information (to the extent that such information is not claimed as CBI): The EPA case number assigned to the PMN; The date the PMN was received by EPA; the projected end date for EPA's review of the PMN; the submitting manufacturer/importer; the potential uses identified by the manufacturer/importer in the PMN; and the chemical identity.

Table 1—PMNs Received From February 1, 2017 to February 28, 2017
Case No. | Received date | Projected notice end date | Manufacturer importer | Use | Chemical
P-17-0227 | 2/1/2017 | 5/2/2017 | CBI | (G) Additive open, non-dispersive use | (G) 2-alkenoic acid, 2-alkyl-, alkyl ester, polymer with 2-alkyl 2-propenoate and a-(2-alkyl-1-oxo-2-alken-1-yl-¿-alkoxypoly(oxy-1,2-alkanediyl), ester with a-2-alken-1-yl-¿-hydroxypoly(oxy-1,2-alkanediyl).
P-16-0186 | 2/6/2017 | 5/7/2017 | CBI | (G) Surfactant | (G) Sodium branched chain alkyl hydroxyl and branched chain alkenyl sulfonates.
P-16-0338 | 2/15/2017 | 5/16/2017 | CBI | (G) Dyestuff | (G) Xanthylium, (sulfoaryl)—bis [(substituted aryl) amino]-, sulfo derivs., inner salts, metal salts.
P-16-0339 | 2/15/2017 | 5/16/2017 | CBI | (G) Dyestuff | (G) Substituted triazinyl metal salt, diazotized, coupled with substituted pyridobenzimidazolesulfonic acids, substituted pyridobenzimidazolesulfonic acids, diazotized substituted alkanesulfonic acid, diazotized substituted aromatic sulfonate, diazotized substituted aromatic sulfonate, metal salts.
P-16-0358 | 2/17/2017 | 5/18/2017 | CBI | (S) Chemical intermediate | (G) Alkyl phenol.
P-16-0439 | 2/14/2017 | 5/15/2017 | CBI | (G) Coloring agent | (G) Carbon black, (organic acidic carbocyclic)-modified, inorganic salt.
P-16-0440 | 2/14/2017 | 5/15/2017 | CBI | (G) Coloring agent | (G) Carbon black, (organic acidic carbocyclic)-modified, metal salt.
P-16-0513 | 2/3/2017 | 5/4/2017 | CBI | (S) Intermediate for further reaction | (G) Hydroxy alkylbiphenyl.
P-16-0514 | 2/28/2017 | 5/29/2017 | CBI | (G) Catalyst | (G) Mixed metal oxide.
P-16-0543 | 2/23/2017 | 5/24/2017 | CBI | (G) Battery ingredient | (G) Halogenophosphoric acid metal salt.
P-16-0544 | 2/6/2017 | 5/7/2017 | Guardian Industries Corp | (S) Additive to influence melting temperature of raw materials and physical characteristics of the final product during the manufacture of flat glass | (S) Flue dust, glass-manufg. desulfurization, calcium hydroxide-treateddefinition: the dust produced form the flue gas exhaust cleaning of a glass manufacturing process followed by treatment with hydrated lime. it consists primarily of caso4 and ca(co3).
P-16-0570 | 2/10/2017 | 5/11/2017 | CBI | (S) Aromatic polyester polyol for rigid foam | (G) Aromatic polyester polyol.
P-16-0593 | 2/24/2017 | 5/25/2017 | CBI | (S) Aromatic polyester polyol for rigid foam | (G) Aromatic polyester polyol.
P-16-0595 | 2/23/2017 | 5/24/2017 | CBI | (G) Polymer | (G) Substituted-(hydroxyalkyl)-alkyl-alkanoic acid, hydroxy-(substitutedalkyl)-alkyl-, polymer with alpha-hydro-omega-hydroxypoly[oxy(alkyl-ethanediyl)] and isocyanato-(isocyanatoalkyl)-multialkylcycloalkane, salt, alkanol-blocked, compds.
P-16-0599 | 2/23/2017 | 5/24/2017 | CBI | (G) Binder resinopen non-dispersive use | (G) Benzoic acid, 4-[(4-ethenylphenyl)alkoxy]-2-hydroxy-, polymer with ethenylbenzene and octadecyl 2-methyl-2-propenoate.
P-17-0014 | 2/10/2017 | 5/11/2017 | Santolubes Manufacturing Llc | (G) Gear lubricant | (S) Fatty acids, c8-c10, mixed esters with c18-unsatd. fatty acid dimers and alpha-hydro-omega-hydroxypoly(oxy-1,4-butanediyl).
P-17-0028 | 2/14/2017 | 5/15/2017 | Henkel Corporation | (G) Component in a epoxy encapsulant | (S) Fatty acid, castor oil, reaction products with epichlorohydrin.
P-17-0117 | 2/14/2017 | 5/15/2017 | CBI | (G) Use as a polyol for polyurethane manufacture. reaction of the new substance with a diisocyanate or Polyisocyanate And other polyols will produce a higher mw polymer | (S) 1,6,10-dodecatriene, 7,11-dimethyl-3-methylene-, (6e)-, homopolymer, 2-hydroxypropyl-terminated.
P-17-0117 | 2/14/2017 | 5/15/2017 | CBI | (S) Used as a feedstock for hydrogenation to produce a saturated diol for use in urethane chemistry or as an additive in coatings adhesives or sealants | (S) 1,6,10-dodecatriene, 7,11-dimethyl-3-methylene-, (6e)-, homopolymer, 2-hydroxypropyl-terminated.
P-17-0118 | 2/14/2017 | 5/15/2017 | CBI | (S) Used as a feedstock for hydrogenation to produce a saturated diol for use in urethane chemistry or as an additive in coatings, adhesives or sealants. (G) Use as a polyol for polyurethane manufacture. reaction of the new substance with a diisocyanate or polyisocyanate and other polyols will produce a higher mw polymer | (S) 1,6,10-dodecatriene, 7,11-dimethyl-3-methylene-, (6e)-, homopolymer, 2-hydroxyethyl-terminated.
P-17-0149 | 2/6/2017 | 5/7/2017 | CBI | (G) Electronic use (G) Electronic device use | (G) Fluorocyanophenyl alkylbenzoate.
P-17-0168 | 2/7/2017 | 5/8/2017 | CBI | (G) Surfactants (G) Intermediate | (G) Fatty secondary amide ethanol.
P-17-0169 | 2/7/2017 | 5/8/2017 | CBI | (G) Surfactants (G) Intermediate | (G) Fatty tertiary amide ethanol.
P-17-0172 | 2/14/2017 | 5/15/2017 | CBI | (G) Lubricating oil additive | (G) Sulfurized alkylphenol, calcium salts.
P-17-0176 | 2/6/2017 | 5/7/2017 | CBI | (G) Battery ingredient | (G) Carbonic acid, alkyl carbomonocyclic ester.
P-17-0177 | 2/25/2017 | 5/26/2017 | Shin-Etsu Microsi | (G) Microlithography for electronic device manufacturing | (G) Monoheteropentacycloalkane-4-carboxylic acid, substituted-cycloalkyl ester.
P-17-0178 | 2/25/2017 | 5/26/2017 | Shin-Etsu Microsi | (G) Microlithography for electronic device manufacturing | (G) Sulfonium, triphenyl-, salt with substituted-alkyl 4-substituted-benzoate.
P-17-0188 | 2/14/2017 | 5/15/2017 | CBI | (G) Binder resin for adhesives/sealants | (G) Alpha-omega, silane-terminated, polyether polyol based polyurethane polymer.
P-17-0189 | 2/8/2017 | 5/9/2017 | Double Bond Chemical Industries Usa, Inc | (S) Doublemer®278-X25 is a ester acrylate monomer blended with 25% isobornyl methacrylate, which improves adhesion to substrates, such as pp and pe, pet | (G) Polyhalogenatedbicycloalkenedicarboxylic acid, methyl[oxyalkenyl)]ethyl ester.
P-17-0199 | 2/3/2017 | 5/4/2017 | CBI | (S) Binder in sealant | (G) Oxyalkylene urethane polyolefin.
P-17-0208 | 2/5/2017 | 5/6/2017 | Alberdingk Boley Inc | (S) Coating for leather and plastic (S) Coating for plastics and metal | (G) Alkanoic acid, hydroxy(hydroxymethyl)-alkyl-, polymer with diisocyanatoalkane, dialkyl carbonate, aldanediol, .alpha.-hydro-.omega.-hydroxypoly(oxyalkanediyl), 1,1′-alkylenebis[isocyanatocycloalkane] and a lactone.
P-17-0209 | 2/5/2017 | 5/6/2017 | Alberdingk Boley Inc | (S) Coating for plastic and metal (S) Coating for leather and plastic | (G) Alkanoic acid, x-hydroxy-y-(hydroxyalkyl)-y-alkyl-, polymer with dialkyl carbonate, alkanediol, alkylenebis [isocyanatocycloalkane] and lactone, compd. with trialkyl amine.
P-17-0210 | 2/5/2017 | 5/6/2017 | Alberdingk Boley Inc | (S) Coating for plastics and metal (S) Coating for leather and plastic | (G) Alkanoic acid, x-hydroxy-y-(hydroxyalkyl)-x-alkyl-, polymer with dialkyl carbonate, alkanediol, isocyanato-1-(isocyanatoalkyl)-trialkylcycloalkane, alkylenebis[isocyanatocycloalkane] and lactone, polyethylene glycon mono me ether-blocked, compds. with trialkyl amine.
P-17-0211 | 2/5/2017 | 5/6/2017 | Alberdingk Boley Inc | (S) Coating for leather and plastic (S) Coating for plastics and metal | (G) Alkanoic acid, x-hydroxy-y-(hydroxyalkyl)-y-alkyl-, polymer with dialkyl carbonate, alkanediol, alkylenebis[iscyanatocycloalkane] and lactone, compd. with trialkylamine.
P-17-0216 | 2/28/2017 | 5/29/2017 | CBI | (G) Paint raw material | (G) Acryl-modified epoxy polymer with vegitable oil, fatty acid, acrylates and methacyrlates with organic amine.
P-17-0217 | 2/14/2017 | 5/15/2017 | Ngk Ceramics Usa, Inc | (S) Additive to diesel particulate filter manufacture. this material is added to the clay prior to forming into a substrate. when the substrate is fired in a kiln, the material burns out, leaving internal pores. these pores collect the emission soot during the operation of the dpf after being installed on the vehicle | (S) Coke, (coal), secondary pitch.
P-17-0226 | 2/2/2017 | 5/3/2017 | Nease Corporation | (G) Bleach catalyst | (S) Manganese(2+ ), bis(octahydro-1,4,7-trimethyl-1h-1,4,7-triazonine-¿n1,¿n4,.kappa.n7)tri-μ-oxodi-,hexafluorophosphate(1-) (1:2).
P-17-0228 | 2/2/2017 | 5/3/2017 | CBI | (G) Coating for displays | (G) 2′-fluoro-4″-alkyl-4-propyl-1,1′:4',1″-terphenyl.
P-17-0229 | 2/2/2017 | 5/3/2017 | CBI | (G) Coating for displays | (G) 4-ethyl-2′-fluoro-4″-alkyl-1,1′:4′,1″-terphenyl.
P-17-0230 | 2/3/2017 | 5/4/2017 | CBI | (G) Additive, open, non-dispersive use | (G) Oxirane, 2-alkyl-, polymer with oxirane, mono[n-[3-(carboxyamino)-4(or 6)-alkylphenyl]carbamate], alkyl ether, ester with 2,2',2”-nitrilotris-[alkanol].
P-17-0231 | 2/6/2017 | 5/7/2017 | CBI | (G) Paint, stain or primer coating | (G) Fatty acids, polymers with benzoic acid, cyclohexanedicarboxylic acid anhydride, aliphatic diisocyanate, alkyl diol, alkyl triol, pentaerythritol, phthalic anhydride, polyalkylene glycol amine, and aromatic dicarboxylate sulphonic acid sodium salt.
P-17-0233 | 2/10/2017 | 5/11/2017 | CBI | (S) Creping aid for yankee dryers to manufacture tissue and towel paper | (G) Oxyalkylene modified polyalkyl amine alkyl diacid polymer with 2-(chloromethyl)oxirane.
P-17-0234 | 2/12/2017 | 5/13/2017 | CBI | (S) Adhesive intermediate | (S) Oxirane, 2-(chloromethyl)-, polymer with 2-methyloxirane polymer with oxirane bis(2-aminopropyl) ether.
P-17-0235 | 2/10/2017 | 5/11/2017 | CBI | (G) Anti-agglomerate | (G) Amidoamino quaternary ammonium salt.
P-17-0236 | 2/23/2017 | 5/24/2017 | CBI | (G) Matrix resin for composite materials (G) Binder resin for electronic materials | (G) Formaldehyde, polymer with (chloromethyl) oxirane and substituted aromatic compounds.
P-17-0237 | 2/23/2017 | 5/24/2017 | CBI | (S) Loca (see description for the primary diol). due to its lower reactivity, very little of the hydrogenated secondary diol will be made or sold for this use. the uses would be identical to the use of the hydrogenated primary diol (G) Export overseas for use in polyurethanes (G) Use in uv cured systems | (S) 1,6,10-dodecatriene, 7,11-dimethyl-3-methylene-, (6e)-, homopolymer, hydrogenated, 2-hydroxyethyl-terminated.
P-17-0238 | 2/23/2017 | 5/24/2017 | CBI | (S) Loca (see description for the primary diol). due to its lower reactivity, very little of the hydrogenated secondary diol will be made or sold for this use. the uses would be identical to the use of the hydrogenated primary diol (G) For use as a plasticizer in uv cure formulations (G) Export overseas for use in polyurethanes (G) Use in uv cured systems | (S) 1,6,10-dodecatriene, 7,11-dimethyl-3-methylene-, (6e)-, homopolymer, 2-hydroxypropyl-terminated, hydrogenated.
P-17-0246 | 2/28/2017 | 5/29/2017 | CBI | (G) Industrial intermediate | (G) Polycarbonate polyol.

For the 12 NOCs received by EPA during this period, Table 2 provides the following information (to the extent that such information is not claimed as CBI): The EPA case number assigned to the NOC; the date the NOC was received by EPA; the projected date of commencement provided by the submitter in the NOC; and the chemical identity.

Table 2—NOCs Received From February 1, 2017 to February 28, 2017
Case No. | Received date | Commencement date | Chemical
J-16-0023 | 2/10/2017 | 1/13/2017 | (G) Trichoderma reesei modified.
P-13-0824 | 2/2/2017 | 1/19/2017 | (S) D-glucitol, 1,4:3,6-dianhydro-, polymer with 1,4-cyclohexanedimethanol and diphenyl carbonate.
P-14-0166 | 2/23/2017 | 12/6/2016 | (G) Fatty acid amide.
P-14-0185 | 2/23/2017 | 12/9/2016 | (G) Fatty acid amide acetate.
P-14-0321 | 2/1/2017 | 1/11/2017 | (S) 2-chloro-1,1,1,2-tetrafluoropropane(244bb).
P-15-0009 | 2/2/2017 | 1/29/2017 | (S) Cyclohexane, 2-ethoxy-1,3-dimethyl-.
P-15-0751 | 2/10/2017 | 2/10/2017 | (G) Naturally-occurring minerals, reaction products with hetero substituted alkyl acrylate polymer, kaolin and sodium silicate.
P-16-0177 | 2/2/2017 | 12/6/2016 | (S) Barium molybdenum niobium tantalum tellurium vanadium zinc oxide.
P-16-0284 | 2/12/2017 | 1/24/2017 | (G) “anilino substituted bis-triazinyl derivative of 4, 4′-diaminostilbene-2, 2′ disulfonic acid, mixed amine sodium salt”.
P-16-0367 | 2/2/2017 | 2/1/2017 | (G) Substituted heteromonocycle, polymer with substituted alkane and ethoxylated alkane, substituted heteromonocycle substituted alkyl ester-blocked.
P-16-0369 | 2/2/2017 | 2/2/2017 | (G) Substituted heteromonocycle, telomer with substituted carbomonocycles, substituted alkyl ester.
P-17-0144 | 2/21/2017 | 2/17/2017 | (S) Amines, c36-alkylenedi-,polymers with octahydro-4,7-methano-1h-indenedimethanamine and pyromellitic dianhydride, maleated.

Authority: 15 U.S.C. 2601 et seq.

Dated: March 28, 2017.
Pamela Myrick,
Director, Information Management Division, Office of Pollution Prevention and Toxics.

[FR Doc. 2017-09559 Filed 5-10-17; 8:45 am]

BILLING CODE 6560-50-P